DEPARTMENT OF THE INTERIOR

Bureau of Reclamation

North Sonoma County Agricultural Reuse Project Sonoma County, CA

AGENCY: Bureau of Reclamation, Interior.

ACTION: Notice of intent to prepare an Environmental Impact Statement (EIS/ Environmental Impact Report (EIR), and notice of public scoping meeting.

SUMMARY: Pursuant to Section 102(2)(C) of the National Environmental Policy Act of 1969 (NEPA) and Public Resources Code, Section 21000-21178.1 of the California Environmental Quality Act (CEQA), the Bureau of Reclamation (Reclamation), the lead Federal agency, and the Sonoma County Water Agency (Agency), the lead State agency, propose to prepare a joint EIS/EIR for the proposed North Sonoma County Agricultural Reuse Project (Project).

The purpose of the proposed Project is to: (1) Reduce agricultural reliance on natural regional water supplies; (2) provide an alternative source of water for agricultural irrigation; and (3) address potential regulatory issues.

DATES: A scoping meeting will be held on February 16, 2006 from 5:30 p.m. to 8 p.m. in Healdsburg, California to solicit comments from interested parties to assist in determining the scope of the environmental analysis and to identify the significant issues related to the proposed Project. Written comment forms will be supplied for those who wish to submit written comments at the scoping meeting.

ADDRESSES: The public scoping meeting will be held at Alexander Valley Community Hall, 5512 Highway 128, Healdsburg, California.

Send written comments on the scope of the project to Mr. David Cuneo, Sonoma County Water Agency, P.O. Box 11628, Santa Rosa, California 95406, no later than March 15, 2006.

FOR FURTHER INFORMATION CONTACT: Mr. David Cuneo at telephone number: (707) 547-1935 or e-mail address: david@scwa.ca.gov.

SUPPLEMENTARY INFORMATION: The Agency, in its continuing efforts to develop a recycled water supply for agricultural water users in the Russian River, Alexander, and Dry Creek valley areas (North Sonoma County area) has identified up to 25,000 acres of agricultural lands that could potentially use recycled water. Based on this estimate, the Agency developed the Project. The Project would include the design and construction of storage reservoirs, conveyance and distribution pipelines, and pump stations. The water for the Project would be tertiary-treated municipal wastewater generated and conveyed primarily through the City of Santa Rosa's (City) Geysers Pipeline to the project areas. Reclamation is the federal lead agency because the Agency has entered into a cooperative funding agreement with Reclamation to provide matching funds up to $500,000 for the Project.

The purpose of the Project is to provide a reliable alternative source of agricultural water to reduce reliance on natural regional water supplies and address regional water supply and regulatory issues. The Project is needed to address current and future regulatory concerns and regional water supply issues. The public would also benefit from this project through the reduction of use of natural regional water supplies, the reduction of wastewater discharges to regional waterways, and from the resulting environmental benefit to fish and wildlife.

Two local groups, the Coalition for Sustainable Agriculture (CSA) and the Dry Creek Agricultural Water Users, Inc. (DCAWU) have expressed significant interest in participating in a recycled water project to develop alternative sources of water for existing agricultural use. The CSA and the DCAWU both recognize that increased instream demands for environmental purposes within the Russian River watershed will compete with agriculture and other uses for available water supplies in the region. The CSA and the DCAWU also recognize that the agricultural use of recycled water may benefit the environment, and consider the Project to be part of a regional water supply solution that balances the needs of municipalities, agricultural interests, and the environment.

Presently, agricultural entities divert water directly from the Russian River and its tributaries, from the underflow of the Russian River and its tributaries, and from groundwater wells. Use of recycled water for agricultural purposes on project lands would reduce reliance on the Russian River and its tributaries as well as on local groundwater wells. Additionally, Federal and State regulatory agencies have expressed concern regarding potential impacts to fisheries resources and habitat within the Russian River and its tributaries. Providing agricultural lands with an alternative source of water would allow water to remain in the Russian River and its tributaries, thus providing benefits to listed fish species and their habitat. The recycled water would be used for agricultural purposes consistent with the California Code of Regulations, Title 22 pertaining to the use of tertiary-treated recycled water.

Our practice is to make comments, including names and home addresses of respondents, available for public review. Individual respondents may request that we withhold their home addresses from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in the entirety.

Dated: December 2, 2005.
Frank Michny,
Regional Environmental Officer, Mid-Pacific Region.

[FR Doc. E6-1189 Filed 1-30-06; 8:45 am]

BILLING CODE 4310-MN-P